DEPARTMENT OF AGRICULTURE

Animal and Plant Health Inspection Service

9 CFR Part 130

[Docket No. 99-060-2]

Veterinary Services User Fees; Fees for Permit Applications

AGENCY: Animal and Plant Health Inspection Service, USDA.

ACTION: Final rule.

SUMMARY: We are amending the user fees for processing applications for permits to import and transport certain animal products, organisms, vectors, and germ plasm. We are also establishing new user fees that would pay the cost of processing applications to import live animals. We are taking this action in order to ensure that we recover our costs.

EFFECTIVE DATE: August 31, 2001.

FOR FURTHER INFORMATION CONTACT: For information concerning program operations for Veterinary Services, contact Ms. Inez Hockaday, Acting Director, Management Support Staff, VS, APHIS, 4700 River Road Unit 44, Riverdale, MD 20737-1231; (301) 734-7517.

For information concerning rate development of the amended user fees, contact Mrs. Kris Caraher, Accountant, Financial Systems and Services Branch, Financial Management Division, MRPBS, APHIS, 4700 River Road Unit 54, Riverdale, MD 20737-1232; (301) 734-8351.

SUPPLEMENTARY INFORMATION:

Background

User fees to reimburse the Animal and Plant Health Inspection Service (APHIS) for the costs of providing veterinary diagnostic services and import-and export-related services for live animals and birds and animal products are contained in 9 CFR part 130. Section 130.8 lists miscellaneous flat rate user fees.

On November 13, 2000, we published in the Federal Register (65 FR 67657-67663, Docket No. 99-060-1) a proposal to amend existing user fees for processing applications for permits to import and transport certain animal products, organisms, vectors, and germ plasm. In that document, we also proposed to establish new user fees that would pay the cost of processing applications to import live animals.

We solicited comments concerning our proposal for 60 days ending January 12, 2001. We did not receive any comments. Therefore, for the reasons given in the proposed rule, we are adopting the proposed rule as a final rule, without change.

Executive Order 12866 and Regulatory Flexibility Act

This rule has been reviewed under Executive Order 12866. The rule has been determined to be not significant for the purposes of Executive Order 12866 and, therefore, has not been reviewed by the Office of Management and Budget.

In accordance with 5 U.S.C. 604, we have performed a final regulatory flexibility analysis, which is set out below, regarding the economic effects of this rule on small entities.

We are amending the user fees for processing applications for permits to import and transport certain animal products, organisms, vectors, and germ plasm. We are also establishing new user fees that will pay the cost of processing applications to import live animals. We are taking this action in order to ensure that we recover our costs.

In our proposed rule, we specifically solicited comments concerning the potential economic effects of the proposed fee increases and new fees. As noted previously, we did not receive any comments in response to our proposed rule.

User Fees for the Importation of Germ Plasm

Prior to the effective date of this rule, APHIS charged a fee of $55 for processing applications to import germ plasm. This rule replaces that single fee with two separate fees: One for processing initial applications for permits, and one for processing amended applications. The fee for processing each new permit application is $94, and the fee for processing each amended permit application is $47.

In fiscal year (FY) 1999, APHIS processed 448 applications for permits to import germ plasm (semen and embryos), generating total revenues of $17,696. We estimate that 90 of those applications were amended applications, and the rest were new applications.

Had the amended fee schedule been in effect during FY 1999¹, APHIS would have generated approximately $37,882 from processing those applications, an increase of $20,186 over actual revenues for that year. Further, as a result of increased world trade, it is likely that APHIS” annual revenues from processing product applications will increase over time.

¹ For FY 1999, fees for processing applications for permits to import germ plasm were set at $39.50. Data on fee receipts based on currently scheduled fees, which were effective October 1, 2000, are not available.

The number of different entities that submitted applications in FY 1999 and the number of applications submitted by each are not available. However, because approximately 90 entities submitted amended applications during the year, we know that the number of different entities is significantly less than the total application count of 448. The economic effect on individual entities will vary, depending on the size of the entity and the number of permits required. For an entity that requires only a few permits each year, as is likely to be the case with the smaller entities that are affected, the amended fees are not likely to have a significant economic impact. However, an entity that is large enough to require a large number of permits is also likely to be large enough to easily absorb the increased fees.

User Fees for Processing Applications for Permits To Import Animal Products

APHIS charges applicants a fee for processing their applications for permits to import animal products (including byproducts, organisms, and vectors). The fees vary, depending on such factors as the type of application and the type of product. The following table shows the scheduled user fees prior to this final rule and the amended user fees:

Service | Previously scheduled user fees: Oct. 1, 2000- Sept. 30, 2001 | Previously scheduled user fees: Oct. 1, 2001- Sept. 30, 2002 | Previously scheduled user fees: Oct. 1, 2002- Sept. 30, 2003 | Previously scheduled user fees: Beginning Oct. 1, 2003 | Amended user fee: Beginning with effective date of this rule
Processing a permit application to import fetal bovine serum when inspection of a facility is required | $283.00 per application | $292.00 per application | $300.00 per application | $309.00 per application | $322.00 per application
Processing an initial permit application to import certain animal products or import or transport organisms or vectors | 36.00 per application | 37.00 per application | 38.00 per application | 39.00 per application | 94.00 per application
Processing an amended permit application to import certain animal products or import or transport organisms or vectors | 15.00 per amended application | 15.00 per amended application | 16.00 per amended application | 16.00 per amended application | 47.00 per amended application
Processing a renewed permit application to import certain animal products or import or transport organisms or vectors | 19.00 per application | 20.00 per application | 21.00 per application | 21.00 per application | 61.00 per application

Under this final rule, all fees will be increased from their current levels. The amended fee amounts were calculated to allow APHIS to recover the full costs of processing the applications. The previously scheduled fees do not allow for full cost recovery, especially given the additional staffing needed to provide applicants with a quick turnaround of their permit requests.

In FY 1999, APHIS processed 2,575 applications for permits to import animal products. Of that total, 2 were fetal bovine serum (with facility inspection) applications, 856 were initial applications to import animal products or import or transport organisms or vectors, 241 were amended applications, and 1,476 were renewed applications.

APHIS generated revenues of $48,868.50 from processing the 2,575 applications in FY 1999.² Had the amended fee schedule been in effect during FY 1999, APHIS would have generated $182,351 from processing those applications, an increase of $133,482.50 over actual revenues for that year. Further, as a result of increased world trade, it is likely that APHIS' annual revenues from processing animal product permit applications will increase over time.

² The revenues collected in FY 1999 are based on collections of the fees that were in place during FY 1999.

The number of different entities that submitted applications in FY 1999 and the number of applications submitted by each are not available. However, because 241 entities submitted amended applications and 1,476 entities submitted renewed applications during the year, we know that the number of different entities is significantly less than the total application count of 2,575. The economic effect on individual entities will vary, depending on the size of the entity and the number of permits required. For an entity that requires only a few permits each year, as is likely to be the case with the smaller entities that are affected, the amended fees are not likely to have a significant economic impact. However, an entity that is large enough to require a large number of permits is also likely to be large enough to easily absorb the increased fees.

User Fees for Processing Applications for Permits To Import Animals

Under APHIS' regulations, importers must, under certain circumstances, apply for and obtain an import permit from the agency prior to importing live animals.³ Prior to the effective date of this rule, APHIS has not charged applicants a fee for processing their permit applications.

³ Whether or not an importer is required to obtain a permit from APHIS depends on several factors, including the type of animal to be imported and the country of export. The rules are designed to protect the health of the U.S. animal population, since such imports may pose a risk of introducing animal diseases.

Under this final rule, APHIS will charge applicants $94 for each new application and $47 for each amended application to import live animals. This final rule is intended to shift the cost of processing the applications from the general taxpayer (via appropriated funds) to the users of those services, i.e., the permit applicants. This final rule also removes an existing inequity, since, prior to this final rule, APHIS charged applicants a fee for processing their applications for permits to import animal products and germ plasm, but has not charged applicants a fee for processing applications for permits to import live animals.

In FY 1999, APHIS processed approximately 9,000 applications for permits to import animals. Of that total, approximately 7,500 were initial applications and 1,500 were amended applications. Had the amended fee schedule been in effect during FY 1999, APHIS would have generated additional revenues of $775,500 from processing those applications. Further, as a result of increased world trade, it is likely that APHIS' annual revenues from processing applications for permits to import live animals will increase over time.

The number of different entities that submitted applications in FY 1999 and the number of applications submitted by each are not available. However, because some entities submitted amended applications and some entities submitted more than one new application during the year, we know that the number of different entities is less than the total application count of 9,000.

Data on the types of entities who submit applications are not available, but those entities are believed to be varied, and include breeders, commercial researchers, universities, zoos, and private individuals. At least some of the commercial entity applicants are believed to be brokers acting on behalf of their client customers. Even though they do not submit permit applications to APHIS, the client customers of brokers are likely to be affected by this rule, since the application fees incurred by the brokers are likely to be passed on to them. The economic effect on individual entities will vary, depending on the size of the entity and the number of permits required. For an entity that requires only a few permits each year, as is likely to be the case with the smaller entities that are affected, the new user fees are not likely to have a significant economic effect. However, an entity that is large enough to require a large number of permits is also likely to be large enough to easily absorb the increased fees.

Effects on Small Entities

The Regulatory Flexibility Act requires that agencies consider the economic effects of their rules on small entities, i.e., small businesses, organizations, and governmental jurisdictions. The changes discussed above will affect those entities in the United States that import live animals, animal products, and germ plasm. They will be affected because they will have to pay new fees, or higher fees, to have APHIS process their permit applications.

The types of entities that may be affected vary widely, and include breeders, commercial researchers, universities, zoos, and private individuals. At least some of the commercial entities are likely to be brokers acting on behalf of their client customers. Even though they themselves do not submit permit applications to APHIS, the client customers of brokers will be affected by this final rule if the increased fees incurred by the brokers are passed on to them.

The number of different entities that will be affected by this final rule and the extent of the economic effects on each are unknown. In FY 1999, APHIS processed approximately 12,023 live animal, animal product, and germ plasm permit applications, but that figure overstates the number of affected entities because some entities submitted more than 1 application during the year. Furthermore, the total application count of 12,023 includes an unknown number of private individuals in the United States who import live animals, animal products, or germ plasm for nonbusiness reasons. These private individuals are not “entities” for purposes of this regulatory flexibility analysis.

It is reasonable to assume that most businesses affected by this final rule are small in size. This is because most U.S. businesses in general are small, based on the standards of the U.S. Small Business Administration (SBA). In 1996, for example, there were 1,197 U.S. firms in SIC 0751, a classification comprised of firms primarily engaged in performing certain services, including breeding, for cattle, hogs, sheep, goats, and poultry. Of those 1,197 firms, 97 percent had less than $5 million in sales that year, the SBA's small entity threshold. Similarly, in 1996, there were 7,408 U.S. firms in SIC 0752, a classification comprised of firms primarily engaged in performing certain services for pets, equines, and other animal specialties, including breeding services. Of those 7,408 firms, over 99 percent had less than $5 million in sales that year, the SBA's small entity threshold for firms in that SIC category. Accordingly, most of the businesses affected by this rule are likely to be small in size.

The economic effect on individual entities will vary, depending on the number of permits required by each. For an entity that requires only a few permits each year, as is likely to be the case with the smaller entities that are affected, the amended fees are not likely to have a significant economic effect. For an entity that submits five new live animal applications per year, the additional annual cost will be $470.

Further, we believe that in most cases, the cost of applying for a permit will be minimal in contrast to the value of the products or animals being imported. For instance, animals can range in value from less than $150 to well over $10,000. It is common for importers to group large amounts of less expensive animals together for a single importation, while more valuable animals may be imported alone. In either case, the cost of applying for a permit is expected to be minimal in comparison to the total value of the animals being imported.

This rule contains various recordkeeping requirements, which were described in our proposed rule, and which have been approved by the Office of Management and Budget (see “Paperwork Reduction Act” below).

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

In accordance with the Paperwork Reduction Act of 1995 (44 U.S.C. 3501 et seq.), the information collection or recordkeeping requirements included in this rule have been approved by the Office of Management and Budget (OMB) under OMB control number 0579-0167 .

List of Subjects in 9 CFR Part 130

Animals, Birds, Diagnostic reagents, Exports, Imports, Poultry and poultry products, Quarantine, Reporting and recordkeeping requirements, Tests.

Accordingly, we are amending 9 CFR part 130 as follows:

PART 130—USER FEES

1. The authority citation for part 130 continues to read as follows:

Authority: 5 U.S.C. 5542; 7 U.S.C. 1622; 19 U.S.C. 1306; 21 U.S.C. 102-105, 111, 114, 114a, 134a, 134c, 134d, 134f, 136, and 136a; 31 U.S.C. 3701, 3716, 3717, 3719, and 3720A; 7 CFR 2.22, 2.80, and 371.4.

2. Section 130.4 is added to read as follows:

§ 130.4 User fees for processing import permit applications.

User fees for processing applications for permits to import certain animals and animal products (using VS forms 16-3 and 17-129) are listed in the table in this section. The person for whom the service is provided and the person requesting the service are jointly and severally liable for payment of these user fees in accordance with §§ 130.50 and 130.51. The table follows:

Service | Unit | User fee: August 31, 2001- Sept. 30, 2001 | User fee: Oct. 1, 2001- Sept. 30, 2002 | User fee: Oct. 1, 2002- Sept. 30, 2003 | User fee: Beginning Oct. 1, 2003
1. Import compliance assistance:
i. Simple (2 hours or less) | Per release | $64.00 | $66.00 | $68.00 | $70.00
ii. Complicated (more than 2 hours) | Per release | 164.00 | 169.00 | 174.00 | 180.00
2. Processing an application for a Permit to import live animals, animal products or byproducts, organisms, vectors, or germ plasm (embryos or semen) or to transport organisms or vectors ¹
i. Initial Permit | Per application | 94.00 | 94.00 | 94.00 | 94.00
ii. Amended Permit | Per amended application | 47.00 | 47.00 | 47.00 | 47.00
iii. Renewed Permit ² | Per application | 61.00 | 61.00 | 61.00 | 61.00
3. Processing an application for a Permit to import fetal bovine serum when facility inspection is required | Per application | 322.00 | 322.00 | 322.00 | 322.00
¹ Using Veterinary Services Form 16-3, “Application for Permit to Import or Transport Controlled Material or Organisms or Vectors,” or Form 17-129, “Application for Import or In Transit Permit (Animals, Animal Semen, Animal Embryos, Birds, Poultry, or Hatching Eggs).”
² Permits to import germ plasm and live animals are not renewable.

3. In § 130.8(a), the table is amended by removing the entries for “Germ plasm being imported” (including footnote 2), “Import compliance assistance”, and “Processing VS Form 16-3”.

Done in Washington, DC, this 26th day of July 2001.
Bobby R. Acord,
Acting Administrator, Animal and Plant Health Inspection Service.

[FR Doc. 01-19182 Filed 7-31-01; 8:45 am]

BILLING CODE 3410-34-P